DEPARTMENT OF THE INTERIOR

National Park Service

[NPS-WASO-NAGPRA-NPS0040152; PPWOCRADN0-PCU00RP14.R50000]

Notice of Intended Disposition: U.S. Department of the Interior, National Park Service, Rock Creek Park, Washington, DC

AGENCY: National Park Service, Interior.

ACTION: Notice.

SUMMARY: In accordance with the Native American Graves Protection and Repatriation Act (NAGPRA), the U.S. Department of the Interior, National Park Service, Rock Creek Park (ROCR) intends to carry out the disposition of human remains and associated funerary objects removed from Federal or Tribal lands to the lineal descendants, Indian Tribe, or Native Hawaiian organization with priority for disposition in this notice.

DATES: Disposition of the human remains and associated funerary objects in this notice may occur on or after June 16, 2025. If no claim for disposition is received by May 18, 2026, the human remains and associated funerary objects in this notice will become unclaimed human remains and associated funerary objects.

ADDRESSES: Brian Joyner, Superintendent, Rock Creek Park, 3545 Williamsburg Lane NW, Washington, DC 20008, telephone (202) 895-6002, email brian_joyner@nps.gov.

SUPPLEMENTARY INFORMATION: This notice is published as part of the National Park Service's administrative responsibilities under NAGPRA. The determinations in this notice are the sole responsibility of the Superintendent ROCR, and additional information on the human remains or cultural items in this notice, including the results of consultation, can be found in the related records.

Abstract of Information Available

Based on the information available, human remains representing, at least, one individual have been reasonably identified from the Ramp 3 site (51NW117). The 72 associated funerary objects include fragments of at least 14 great white shark's teeth; one sandstone phallus; two stone pendants; one elk antler comb with 83 fragments counted as one lot; one stone knife blade; one wood bead; one quartzite hammerstone; five fragmented antler disks; and some very small textile fragments counted as one lot. In addition to the artifacts, 33 small, burned fragments of mammal bone and 12 small, burned fragments of bird bone were found. Between 1996 and 1997, an archeological contract firm made an unanticipated archeological discovery during a highway improvement project on National Park Service land administered by Rock Creek Park in Washington, DC. During analysis of the animal fauna recovered from the site, two human bones were found and sent to a forensic specialist for identification. It is believed that the individual and some of the organic artifacts recovered at the site may have been cremated elsewhere before being re-interred in this location. The human remains and funerary objects are stored at the NPS Museum Resource Center (MRCE) in the National Capital Region.

Determinations

ROCR has determined that:

• The human remains described in this notice represent the physical remains of one individual of Native American ancestry.

• The 72 objects described in this notice are reasonably believed to have been placed intentionally with or near individual human remains at the time of death or later as part of the death rite or ceremony.

• The Chickahominy Indian Tribe; Chickahominy Indian Tribe—Eastern Division; Delaware Nation, Oklahoma; Delaware Tribe of Indians; Nansemond Indian Nation; Pamunkey Indian Tribe; Rappahannock Tribe, Inc.; Seneca Nation of Indians; and the Upper Mattaponi Tribe have priority for disposition of the human remains and associated funerary objects described in this notice.

Claims for Disposition

Written claims for disposition of the human remains and associated funerary objects in this notice must be sent to the appropriate official identified in this notice under ADDRESSES. If no claim for disposition is received by May 18, 2026, the human remains and associated funerary objects in this notice will become unclaimed human remains and associated funerary objects.

Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after June 16, 2025. If competing claims for disposition are received, ROCR must determine the most appropriate claimant prior to disposition. Requests for joint disposition of the human remains or cultural items are considered a single request and not competing requests. ROCR is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: May 8, 2025.
Melanie O'Brien,
Manager, National NAGPRA Program.

[FR Doc. 2025-08778 Filed 5-15-25; 8:45 am]

BILLING CODE 4312-52-P